DEPARTMENT OF COMMERCE

International Trade Administration

[A-533-871, A-475-835]

Finished Carbon Steel Flanges From India and Italy: Antidumping Duty Orders

AGENCY: Enforcement and Compliance, International Trade Administration, Department of Commerce.

SUMMARY: Based on affirmative final determinations by the Department of Commerce (the Department) and the International Trade Commission (the ITC), the Department is issuing antidumping duty orders on finished carbon steel flanges from India and Italy.

DATES: Applicable August 24, 2017.

FOR FURTHER INFORMATION CONTACT: Fred Baker at (202) 482-2924 (India), Edythe Artman at (202) 482-3931 or Moses Song at (202) 482-5041 (Italy), AD/CVD Operations, Office VI, Enforcement and Compliance, International Trade Administration, U.S. Department of Commerce, 1401 Constitution Avenue NW., Washington, DC 20230.

SUPPLEMENTARY INFORMATION:

Background

In accordance with sections 735(d) and 777(i)(1) of the Tariff Act of 1930, as amended (the Act), and 19 CFR 351.210(c), on June 29, 2017, the Department published its affirmative final determinations in the less-than-fair-value (LTFV) investigations of finished carbon steel flanges from India and Italy.¹ On August 14, 2017, the ITC notified the Department of its final affirmative determination that an industry in the United States is materially injured within the meaning of section 735(b)(1)(A)(i) of the Act, by reason of the LTFV imports of finished carbon steel flanges from India and Italy.² On August 17, 2017, the ITC published its final determination in the Federal Register.³

¹ See Finished Carbon Steel Flanges from India: Final Determination of Sales at Less Than Fair Value, 82 FR 29483 (June 29, 2017) (India Final Determination); see also Finished Carbon Steel Flanges from Italy: Final Determination of Sales at Less Than Fair Value, 82 FR 29481 (June 29, 2017) (Italy Final Determination).

² See section 735(d) of the Act (requiring notification); see also Letter from the ITC regarding “Antidumping and Countervailing Duty Investigations of Finished Carbon Steel Flanges from India, and Antidumping Investigation of Finished Carbon Steel Flanges from Italy,” dated August 14, 2017 (ITC Letter). See also Finished Carbon Steel Flanges from India and Italy: Investigation Nos. 701-TA-563 and 731-TA-1331-1332 (Final), USITC Publication 4717 (August 2017) (ITC Report).

³ See Finished Carbon Steel Flanges From India and Italy; Determinations, 82 FR 39133 (August 17, 2017).

Scope of the Orders

The merchandise covered by these orders is finished carbon steel flanges from India and Italy. For a complete description of the scope of these orders, see Appendix of this notice.

Antidumping Duty Orders

As stated above, on August 14, 2017, in accordance with section 735(d) of the Act, the ITC notified the Department of its final determinations that an industry in the United States is materially injured by reason of imports of finished carbon steel flanges from India and Italy.⁴ Therefore, in accordance with section 735(c)(2) of the Act, we are issuing these antidumping duty orders. Because the ITC determined that imports of finished carbon steel flanges from India and Italy are materially injuring a U.S. industry, unliquidated entries of such merchandise from India and Italy, entered or withdrawn from warehouse for consumption, are subject to the assessment of antidumping duties.

⁴ See ITC Letter and ITC Report.

As a result of the ITC's final affirmative determination, in accordance with section 736(a)(1) of the Act, the Department will direct U.S. Customs and Border Protection (CBP) to assess, upon further instruction by the Department, antidumping duties equal to the amount by which the normal value of the merchandise exceeds the export price (or constructed export price) of the merchandise, for all relevant entries of finished carbon steel flanges from India and Italy. Antidumping duties will be assessed on unliquidated entries of finished carbon steel flanges from India and Italy entered, or withdrawn from warehouse, for consumption on or after February 8, 2017, the date of publication of the preliminary determinations,⁵ but will not include entries occurring after the expiration of the provisional measures period and before publication in the Federal Register of the ITC's injury determination, as further described below.

⁵ See Finished Carbon Steel Flanges From India: Preliminary Determination of Sales at Less Than Fair Value and Postponement of Final Determination, 82 FR 9719 (February 8, 2017) (Italy Preliminary Determination); Finished Carbon Steel Flanges from Italy: Preliminary Determination of Sales at Less Than Fair Value and Postponement of Final Determination, 82 FR 9711 (February 8, 2017) (India Preliminary Determination).

Suspension of Liquidation

In accordance with section 735(c)(1)(B) of the Act, we will instruct CBP to continue to suspend liquidation on all relevant entries of finished carbon steel flanges from India and Italy. These instructions suspending liquidation will remain in effect until further notice.

We will also instruct CBP to require cash deposits for estimated antidumping duties equal to the estimated weighted-average dumping margins indicated below. Accordingly, applicable August 17, 2017, the date of publication in the Federal Register of the ITC's final affirmative injury determinations, CBP will require, at the same time as importers would normally deposit estimated duties on this subject merchandise, a cash deposit equal to the estimated weighted-average dumping margins listed below.⁶ The relevant “all-others” rates apply to all producers or exporters not specifically listed, as appropriate.

⁶ See section 736(a)(3) of the Act.

Provisional Measures

Section 733(d) of the Act states that the suspension of liquidation pursuant to an affirmative preliminary determination may not remain in effect for more than four months, except where exporters representing a significant proportion of exports of the subject merchandise request the Department to extend that four-month period to no more than six months. At the request of exporters that account for a significant proportion of finished carbon steel flanges from India and Italy, the Department extended the four-month period to six months in each case.⁷ In the underlying investigations, the Department published the preliminary determinations on February 8, 2017. Therefore, the extended period, beginning on the date of publication of the preliminary determinations, ended on August 6, 2017. Furthermore, section 737(b) of the Act states that the collection of final cash deposits will begin on the date of publication of the ITC's final injury determination.

⁷ See India Preliminary Determination, 82 FR at 9721 and Italy Preliminary Determination, 82 FR at 9713.

Therefore, in accordance with section 733(d) of the Act and our practice, we will instruct CBP to terminate the suspension of liquidation and to liquidate, without regard to antidumping duties, unliquidated entries of finished carbon steel flanges from India and Italy entered, or withdrawn from warehouse, for consumption after August 6, 2017, until and through August 16, 2017, the day preceding the date of publication of the ITC's final injury determination in the Federal Register.

Estimated Weighted-Average Dumping Margins

The estimated weighted-average dumping margins for each antidumping order are as follows:

Exporter/producer | Estimated weighted-average dumping margin (percent) | Cash deposit rate (adjusted for subsidy offsets) (percent)
India
Norma (India) Limited ⁸ | 11.32 | 8.56.⁹
R. N. Gupta & Co., Ltd | 12.58 | 9.27.¹⁰
All-Others | 11.95 | 8.91.¹¹
Italy
Metalfar Prodotti Industriali S.p.A | 204.53 | Not Applicable.
Officine Ambrogio Melesi & C. S.r.l ¹² | 204.53 | Not Applicable.
All-Others | 79.17 | Not Applicable.

Notification to Interested Parties

This notice constitutes the antidumping duty orders with respect to finished carbon steel flanges from India and Italy pursuant to section 736(a) of the Act. Interested parties can find a list of antidumping duty orders currently in effect at http://enforcement.trade.gov/stats/iastats1.html.

⁸ The Department has determined that Norma (India) Limited and USK Exports Private Limited and Uma Shanker Khandelwal & Co. and Bansidhar Chiranjilal are a single entity. See Memorandum, “Less-Than-Fair-Value Investigation of Finished Carbon Steel Flanges from India: Preliminary Affiliation and Collapsing Memorandum for Norma (India) Limited,” dated January 26, 2017, at 8-9, unchanged in India Final Determination.

⁹ See India Final Determination, 82 FR at 29484.

¹⁰ Id.

¹¹ Id.

¹² The Department has determined that Officine Ambrogio Melesi & C. S.r.l and ASFO S.p.A. are a single entity. See Memorandum, “Less-Than-Fair-Value Investigation of Finished Carbon Steel Flanges from Italy: Affiliation and Collapsing Memorandum for Officine Ambrogio Melesi & C. S.r.l.,” dated January 26, 2017, at 7, unchanged in Italy Final Determination.

These orders are published in accordance with section and 736(a) of the Act and 19 CFR 351.211(b).

Dated: August 21, 2017.
Gary Taverman,
Deputy Assistant Secretary for Antidumping and Countervailing Duty Operations performing the non-exclusive functions and duties of the Assistant Secretary for Enforcement and Compliance.

Appendix

Scope of the Orders

The scope of these orders covers finished carbon steel flanges. Finished carbon steel flanges differ from unfinished carbon steel flanges (also known as carbon steel flange forgings) in that they have undergone further processing after forging, including, but not limited to, beveling, bore threading, center or step boring, face machining, taper boring, machining ends or surfaces, drilling bolt holes, and/or de-burring or shot blasting. Any one of these post-forging processes suffices to render the forging into a finished carbon steel flange for purposes of these orders. However, mere heat treatment of a carbon steel flange forging (without any other further processing after forging) does not render the forging into a finished carbon steel flange for purposes of this order.

While these finished carbon steel flanges are generally manufactured to specification ASME B16.5 or ASME B16.47 series A or series B, the scope is not limited to flanges produced under those specifications. All types of finished carbon steel flanges are included in the scope regardless of pipe size (which may or may not be expressed in inches of nominal pipe size), pressure class (usually, but not necessarily, expressed in pounds of pressure, e.g., 150, 300, 400, 600, 900, 1,500, 2,500, etc.), type of face (e.g., flat face, full face, raised face, etc.), configuration (e.g., weld neck, slip on, socket weld, lap joint, threaded, etc.), wall thickness (usually, but not necessarily, expressed in inches), normalization, or whether or not heat treated. These carbon steel flanges either meet or exceed the requirements of the ASTM A105, ASTM A694, ASTM A181, ASTM A350 and ASTM A707 standards (or comparable foreign specifications). The scope includes any flanges produced to the above-referenced ASTM standards as currently stated or as may be amended. The term “carbon steel” under this scope is steel in which:

(a) Iron predominates, by weight, over each of the other contained elements:

(b) The carbon content is 2 percent or less, by weight; and

(c) none of the elements listed below exceeds the quantity, by weight, as indicated:

(i) 0.87 percent of aluminum;

(ii) 0.0105 percent of boron;

(iii) 10.10 percent of chromium;

(iv) 1.55 percent of columbium;

(v) 3.10 percent of copper;

(vi) 0.38 percent of lead;

(vii) 3.04 percent of manganese;

(viii) 2.05 percent of molybdenum;

(ix) 20.15 percent of nickel;

(x) 1.55 percent of niobium;

(xi) 0.20 percent of nitrogen;

(xii) 0.21 percent of phosphorus;

(xiii) 3.10 percent of silicon;

(xiv) 0.21 percent of sulfur;

(xv) 1.05 percent of titanium;

(xvi) 4.06 percent of tungsten;

(xvii) 0.53 percent of vanadium; or

(xviii) 0.015 percent of zirconium.

Finished carbon steel flanges are currently classified under subheadings 7307.91.5010 and 7307.91.5050 of the Harmonized Tariff Schedule of the United States (HTSUS). They may also be entered under HTSUS subheadings 7307.91.5030 and 7307.91.5070. The HTSUS subheadings are provided for convenience and customs purposes; the written description of the scope is dispositive.

[FR Doc. 2017-18056 Filed 8-23-17; 8:45 am]

BILLING CODE 3510-DS-P